INTERNATIONAL TRADE COMMISSION

[Investigation No. 337-TA-609]

In the Matter of Certain Buffer Systems and Components Thereof Used in Container Processing Lines; Notice of a Commission Determination Not To Review an Initial Determination Terminating Two Respondents From the Investigation on the Basis of a Settlement Agreement and License Agreement; Termination of Investigation

AGENCY: U.S. International Trade Commission.

ACTION: Notice.

SUMMARY: Notice is hereby given that the U.S. International Trade Commission has determined not to review an initial determination (“ID”) (Order No. 26) of the presiding administrative law judge (“ALJ”) in the above-captioned investigation terminating two respondents on the basis of a settlement agreement and license agreement and terminating the investigation.

FOR FURTHER INFORMATION CONTACT: Michael K. Haldenstein, Office of the General Counsel, U.S. International Trade Commission, 500 E Street, SW., Washington, DC 20436, telephone (202) 205-3041. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 5, 2007, under section 337 of the Tariff Act of 1930, as amended, 19 U.S.C. 1337, based on a complaint filed by Sidel Participations of France, Sidel Canada Inc. of Canada, and Sidel Inc. of Norcross, Georgia. Complainants supplemented their complaint on June 18, 2007. The respondents named in the complaint are Krones AG and KHS AG of Germany; Krones Inc., of Franklin, Wisconsin; and KHS USA, Inc. of Waukesha, Wisconsin. The complaint, as supplemented, alleged violations of section 337 in the importation into the United States, the sale for importation, and the sale within the United States after importation of certain buffer systems and components thereof used in container processing lines by reason of infringement of U.S. Patent No. 6,168,005. The complaint further alleged that a domestic industry exists in the United States as required by subsection (a)(2) of section 337. The complainants request that the Commission issue a general exclusion order and cease and desist orders.

On May 28, 2008, complainants and the two remaining respondents, KHS AG and KHS USA, Inc. (collectively “KHS”), filed a joint motion pursuant to Commission rule 210.21 for termination of the investigation based upon a settlement agreement and license agreement. The Commission investigative attorney filed a response in support of the motion.

On June 11, 2008, the ALJ issued the subject ID, granting the joint motion and terminating the investigation with respect to KHS on the basis of the settlement agreement and license agreement. No petitions for review were filed and the Commission has determined not to review the subject ID. The investigation is terminated.

This action is taken under the authority of section 337 of the Tariff Act of 1930, as amended, 19 U.S.C. 1337, and Commission rules 210.21, 210.42, 19 CFR 210.21, 210.42.

Issued: July 3, 2008.
By order of the Commission.
Marilyn R. Abbott,
Secretary to the Commission.

[FR Doc. E8-15634 Filed 7-9-08; 8:45 am]

BILLING CODE 7020-02-P